NATIONAL AERONAUTICS AND SPACE ADMINISTRATION

48 CFR Part 1811

Priorities and Allocations

AGENCY: National Aeronautics and Space Administration (NASA).

ACTION: Final rule.

SUMMARY: This final rule amends the NASA FAR Supplement (NFS) to specify that use of a priority rating under the Defense Priorities and Allocations System (DPAS) regulation is not required unless the acquisition is in support of one of the Schedule I approved programs of the DPAS.

EFFECTIVE DATE: June 1, 2001.

FOR FURTHER INFORMATION CONTACT: Jeff Cullen, NASA Headquarters, Office of Procurement, Contract Management Division (Code HK), (202) 358-1784, e-mail: jcullen@hq.nasa.gov.

SUPPLEMENTARY INFORMATION:

A. Background

Currently, most NASA contracts receive DPAS ratings. This final rule provides that contracts will receive ratings only if they are in support of one of the approved programs in DPAS Schedule I. This change was published as a proposed rule in the Federal Register on September 20, 2000 (65 FR 56859-56860). Comments were received from the Office of Strategic Industries and Economic Security, U.S. Department of Commerce. These comments were considered in the development of the final rule. In response to comments, section 1811.603(e) was changed to provide statutory references covering exceptions to the rating system rather than a detailed listing of these exceptions. Additionally, the proposed rule unintentionally indicated that section 1811.602 was proposed for deletion. This error is corrected in this final rule and an editorial change is made to an organizational code within this section.

B. Regulatory Flexibility Act

NASA certifies that this rule will not have a significant economic impact on a substantial number of small business entities within the meaning of the Regulatory Flexibility Act (5 USC 601, et. seq.), because it does not impose any new requirements on offerors or contractors.

C. Paperwork Reduction Act

The Paperwork Reduction Act does not apply because the changes to the NFS do not impose any recordkeeping or information collection requirements, or collection of information from offerors, contractors, or members of the public that require the approval of the Office of Management and Budget under 44 USC 3501, et. seq.

List of Subjects in 48 CFR Parts 1811

Government Procurement.

Tom Luedtke,
Associate Administrator for Procurement.

1. The authority citation for 48 CFR Part 1811 continues to read as follows:

Authority: 42 U.S.C. 2473(c)(1).

PART 1811—DESCRIBING AGENCY NEEDS

2. In section 1811.602, amend paragraph (c) by deleting “(Code HS)” and adding “(Code HK)” in its place.

3. Revise section 1811.603 to read as follows:

1811.603 Procedures.

(NASA supplements paragraphs (e) and (g).)

(e)(i) Rated orders may be used by NASA only as provided in Section 700.17 of the DPAS (15 CFR 700.17) and subject to the limitations provided in Section 700.18 of the DPAS (15 CFR 700.18). Priority ratings are assigned on individual contracts and purchase orders by the contracting officer.

(ii) NASA rated orders may only be assigned a DO rating, unless NASA has obtained a DX rating from the Department of Defense.

(iii) The following program identification symbols may be used on NASA rated contracts and purchase orders for equipment and services that support authorized programs (see Schedule I of the DPAS):

A1—Aircraft

A2—Missiles

A3—Ships

A5—Weapons

A6—Ammunition

A7—Electronic and Communications Equipment

B1—Military Building Supplies

B8—Production Equipment (For Contractor's Account)

B9—Production Equipment (Government-Owned)

C2—Construction

C3—Maintenance, Repair, and Operating Supplies for Facilities

C9—Miscellaneous/Other

(g) Installation requests for assistance shall be directed to the Headquarters Office of Procurement (Code HK).

[FR Doc. 01-13809 Filed 5-31-01; 8:45 am]

BILLING CODE 7510-01-P